DEPARTMENT OF COMMERCE

National Oceanic and Atmospheric Administration

RIN 0648-XA626

Marine Mammals; File No. 16163

AGENCY: National Marine Fisheries Service (NMFS), National Oceanic and Atmospheric Administration (NOAA), Commerce.

ACTION: Notice; receipt of application for permit amendment.

SUMMARY: Notice is hereby given that the Northwest Fisheries Science Center (NWFSC, Dr. M. Bradley Hanson, Principal Investigator), 2725 Montlake Blvd. East, Seattle, WA 98112-2097, has applied for an amendment to Scientific Research Permit No. 16163.

DATES: Written, telefaxed, or email comments must be received on or before July 25, 2012.

ADDRESSES: The application and related documents are available for review by selecting “Records Open for Public Comment” from the Features box on the Applications and Permits for Protected Species home page, https://apps.nmfs.noaa.gov, and then selecting File No. 16163 from the list of available applications.

These documents are also available upon written request or by appointment in the following offices: See SUPPLEMENTARY INFORMATION.

Written comments on this application should be submitted to the Chief, Permits and Conservation Division, at the address listed above. Comments may also be submitted by facsimile to (301) 713-0376, or by email to NMFS.Pr1Comments@noaa.gov. Please include the File No. 16163 in the subject line of the email comment.

Those individuals requesting a public hearing should submit a written request to the Chief, Permits and Conservation Division at the address listed above. The request should set forth the specific reasons why a hearing on this application would be appropriate.

FOR FURTHER INFORMATION CONTACT: Laura Morse or Jennifer Skidmore, (301) 427-8401.

SUPPLEMENTARY INFORMATION: The subject amendment to Permit No. 16163 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 16163, issued on June 5, 2012 (77 FR 35657), authorizes takes of forty-two species of marine mammals in all U.S. and international waters in the Pacific Ocean, including waters of Alaska, Washington, Oregon, California, and Hawaii. Harassment of all species of cetaceans will occur through vessel approach for sighting surveys, photographic identification, behavioral research, opportunistic sampling (breath, sloughed skin, fecal material, and prey remains), acoustic imaging with echosounders, and aerial surveys. Twenty-seven cetacean species and unidentified mesoplodon species will be biopsied, dart, and/or suction-cup tagged. Ultrasound sampling will be directed at killer whales including the Southern Resident stock. Active acoustic playback studies will be directed at Southern Resident killer whales. Import and export of marine mammal prey specimens, skin and blubber, sloughed skin, fecal and breath samples obtained is authorized. The permit is valid until June 6, 2017.

The permit holder is requesting the permit be amended to increase the takes associated with Level B harassment from 25 each per year to 2500 for short- beaked common (Delphinus delphis) and long-beaked common (D. capensis) dolphins. The purpose of the take increase is to correct an error in original application.

An environmental assessment (EA) and Finding of No Significant Impact (FONSI) (signed June 4, 2012) prepared for the permit analyzed the effects of Level B harassment of long- and short beaked common dolphins and the determination was made that preparation of an environmental impact statement was not required. NMFS has further determined that the proposed increase in takes would not significantly impact the quality of the human environment and that preparation of a supplemental environmental assessment is not required. The EA and FONSI are available upon request.

Concurrent with the publication of this notice in the Federal Register, NMFS is forwarding copies of the amendment request to the Marine Mammal Commission and its Committee of Scientific Advisors.

Documents may be reviewed in the following locations:

Permits and Conservation Division, Office of Protected Resources, NMFS, 1315 East-West Highway, Room 13705, Silver Spring, MD 20910; phone (301) 713-2289; fax (301) 713-0376;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018; and

Pacific Islands Region, NMFS, 1601 Kapiolani Blvd., Rm 1110, Honolulu, HI 96814-4700; phone (808) 973-2935; fax (808)973-2941.

Dated: June 20, 2012.
P. Michael Payne,
Chief, Permits and Conservation Division, Office of Protected Resources, National Marine Fisheries Service.

[FR Doc. 2012-15445 Filed 6-22-12; 8:45 am]

BILLING CODE 3510-22-P